SMALL BUSINESS ADMINISTRATION

[Disaster Declaration #17649 and #17650; Puerto Rico Disaster Number PR-00043]

Presidential Declaration of a Major Disaster for Public Assistance Only for the Commonwealth of Puerto Rico

AGENCY: U.S. Small Business Administration.

ACTION: Notice.

SUMMARY: This is a Notice of the Presidential declaration of a major disaster for Public Assistance Only for the Commonwealth of Puerto Rico (FEMA-4671-DR), dated 09/29/2022.

Incident: Hurricane Fiona.

Incident Period: 09/17/2022 and continuing.

DATES: Issued on 09/29/2022.

Physical Loan Application Deadline Date: 11/28/2022.

Economic Injury (EIDL) Loan Application Deadline Date: 06/29/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 09/29/2022, Private Non-Profit organizations that provide essential services of a governmental nature may file disaster loan applications at the address listed above or other locally announced locations.

The following areas have been determined to be adversely affected by the disaster:

Primary Municipalities:

Arecibo, Arroyo, Cabo Rojo, Guayanilla, Jayuya, Salinas, San German, Toa Alta, Utuado.

The Interest Rates are:

For Physical Damage:
Non-Profit Organizations with Credit Available Elsewhere | 1.875.
Non-Profit Organizations without Credit Available Elsewhere | 1.875.
For Economic Injury:
Non-Profit Organizations without Credit Available Elsewhere | 1.875.

The number assigned to this disaster for physical damage is 17649 8 and for economic injury is 17650 0.

(Catalog of Federal Domestic Assistance Number 59008)

Rafaela Monchek,
Acting Associate Administrator for Disaster Assistance.

[FR Doc. 2022-21723 Filed 10-5-22; 8:45 am]

BILLING CODE 8026-09-P